FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 14, 2002.

A. Federal Reserve Bank of Cleveland (Stephen J. Ong, Vice President) 1455 East Sixth Street, Cleveland, Ohio 44101-2566:

1. John William Straker, Bonita Springs, Florida, and John William Straker, Jr., Granville, Ohio; to retain voting shares of BancFirst Ohio Corp., Zanesville, Ohio, and thereby indirectly retain voting shares of First National Bank, Zanesville, Ohio.

B. Federal Reserve Bank of Kansas City (Susan Zubradt, Assistant Vice President) 925 Grand Avenue, Kansas City, Missouri 64198-0001:

1. Edward Palmer Milbank, Chillicothe, Missouri, as trustee of the Edward P. Milbank Trust and the John P. Milbank Trust, both of Chillicothe, Missouri; to retain voting shares of IFB Holdings, Inc., Chillicothe, Missouri, and thereby indirectly retain voting shares of Investors Federal Bank, NA, Chillicothe, Missouri.

Board of Governors of the Federal Reserve System, January 24, 2002.
Robert deV. Frierson,
Deputy Secretary of the Board.

[FR Doc. 02-2202 Filed 1-29-02; 8:45 am]

BILLING CODE 6210-01-S